FEDERAL COMMUNICATIONS COMMISSION

47 CFR Part 73

[MB Docket No. 24-4; RM-11974; DA 24-212; FR ID 207908]

Television Broadcasting Services Waynesboro, Virginia

AGENCY: Federal Communications Commission.

ACTION: Final rule.

SUMMARY: On January 11, 2024, the Video Division, Media Bureau (Bureau) issued a Notice of Proposed Rulemaking (NPRM) in response to a petition for rulemaking VPM Media Corporation (Petitioner), requesting the allotment of reserved noncommercial educational (NCE) television channel * 12 to Waynesboro, Virginia (Waynesboro), in the Table of TV Allotments as the community's first local television service and its first NCE television service. For the reasons set forth in the Report and Order referenced below, the Bureau amends FCC regulations by allotting channel * 12 at Waynesboro.

DATES: Effective April 15, 2024.

FOR FURTHER INFORMATION CONTACT: Emily Harrison, Media Bureau, at (202) 418-1665 or Emily.Harrison@fcc.gov.

SUPPLEMENTARY INFORMATION: The proposed rule was published at 89 FR 3624 on January 19, 2024. The Petitioner filed comments in support of the petition reaffirming its commitment to apply for channel * 12. No other comments were filed.

The Bureau believes the public interest would be served by allotting channel * 12 at Waynesboro, which, as of the 2020 Census, has a population of 22,196 and clearly qualifies for community of license status for allotment purposes. Waynesboro has its own ZIP Code, two post offices, city council, public school system, police department, and library. The proposal would also result in a first local service to Waynesboro under the Commission's second allotment priority. The Petitioner demonstrates, and a staff engineering analysis confirms, that channel * 12 can be allotted to Waynesboro consistent with the minimum geographic spacing requirements for new DTV allotments in section 73.622(k) of the rules, at 37°38′24″ N and 78°27′11″ W (allotment point). In addition, the allotment point complies with section 73.618 of the rules as the entire community of Waynesboro is encompassed by the 43 dBμ contour.

This is a synopsis of the Commission's Report and Order, MB Docket No. 24-4; RM-11974; DA 24-212, adopted March 7, 2024, and released March 7, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under Virginia, by adding an entry for Waynesboro to read as follows:

§ 73.622 Digital television table of allotments.

* * * * *

(j) * * *

Community | Channel No.
* * * * *
Virginia
* * * * *
Waynesboro | * 12
* * * * *

[FR Doc. 2024-05369 Filed 3-13-24; 8:45 am]

BILLING CODE 6712-01-P